DEPARTMENT OF HEALTH AND HUMAN SERVICES

Agency for Healthcare Research and Quality Contract Review Meeting

In accordance with section 10(a) of the Federal Advisory committee Act as amended (5 U.S.C., Appendix 2), announcement is made of an Agency for Healthcare Research and Quality (AHRQ) Technical Review Committee (TRC) meeting. This TRC's charge is to review contract proposals and provide recommendations to the Acting Director, AHRQ, with respect to the technical merit of proposals submitted in response to a Request for proposals (RFP) regarding a “Medical Expenditure Panel Survey (MEPS))”. The RFP was published in the Commerce Business Daily on November 26, 2001.

The upcoming TRC meeting will be closed to the public in accordance with the Federal Advisory Committee Act (FACA), section 10(d) of 5 U.S.C., Appendix 2, implementing regulations, 42 CFR Part 67 Subpart B, and procurement regulations, 41 CFR 101-6.1023 and 48 CFR 315.604(d). The discussions at this meeting of contract proposals submitted in response to the above-referenced RFP are likely to reveal proprietary information and personal information concerning individuals associated with the proposals. Such information is exempt from disclosure under the above-cited FACA provision that protects the free exchange of candid views, and under the procurement rules that prevent undue interference with Committee and Department operations.

Name of TRC: The Agency for Healthcare Research and Quality—“Medical Expenditure Panel Survey (MEPS)”.

Date: April 9, 2002.

Place: Agency for Healthcare Research & Quality, 2101 East Jefferson Street, 5th Floor Conference Room, Rockville, Maryland 20852.

Contact Person: Anyone wishing to obtain information regarding this meeting should contact Doris Lefkowitz, Center for Cost Financing Studies, Agency for Healthcare Research and Quality, 2101 East Jefferson Street, Suite 500, Rockville, Maryland, 20852, 301-594-1077.

This notice is being published less than 15 days prior to the April 9 meeting due to the timing limitations imposed by the review and funding cycle.

Dated: April 2, 2002.
Carolyn M. Clancy,
Acting Director.

[FR Doc. 02-8422 Filed 4-5-02; 8:45 am]

BILLING CODE 4160-90-M